SECURITIES AND EXCHANGE COMMISSION

[File No. 1-13866]

Issuer Delisting; Notice of Application of Kyzen Corporation To Withdraw Its Common Stock, $.01 Par Value, and Warrants From Listing and Registration on the Boston Stock Exchange, Inc.

June 4, 2004.

On June 1, 2004, Kyzen Corporation, a Tennessee corporation (“Issuer”), has filed an application with the Securities and Exchange Commission (“Commission”), pursuant to Section 12(d) of the Securities Exchange Act of 1934 (“Act”) ¹ and Rule 12d2-2(d) thereunder,² to withdraw its Common Stock, $.01 par value and Warrants (“Securities”), from listing and registration on the Boston Stock Exchange, Inc. (“BSE” or “Exchange”).

¹ 15 U.S.C. 78l(d).

² 17 CFR 240.12d2-2(d).

On April 27, 2004, the Board of Directors (“Board”) of the Issuer approved a resolution to withdraw the Securities from listing and registration on the BSE. The Issuer states that it has maintained its listing on the BSE to assure a national market for its Securities. However, in the last five years, there has been only one transaction on the BSE involving the Issuer's Common Stock, and only limited transactions involving the Issuer's Warrants, which have been trading at significantly less than their exercise price for several years. Therefore, the Issuer's Board determined that the annual cost of maintaining the listing is an unnecessary expense. The Issuer states that the Securities are currently quoted on the Over-the-Counter Bulletin Board.

The Issuer states in its application that it has complied with BSE's procedures for delisting by complying with all applicable laws in effect in the State of Tennessee, the state in which it is incorporated. The Issuer's application relates solely to withdrawal of the Securities from listing on the BSE and from registration under Section 12(b) of the Act,³ and shall not affect its obligation to be registered under Section 12(g) of the Act.⁴

³ 15 U.S.C. 78l(b).

⁴ 15 U.S.C. 78l(g).

Any interested person may, on or before June 29, 2004, comment on the facts bearing upon whether the application has been made in accordance with the rules of the BSE and what terms, if any, should be imposed by the Commission for the protection of investors. All comment letters may be submitted by either of the following methods:

Electronic Comments:

• Send an e-mail to rule-comments@sec.gov. Please include the File Number 1-13866 or;

Paper Comments:

• Send paper comments in triplicate to Jonathan G. Katz, Secretary, Securities and Exchange Commission, 450 Fifth Street, NW., Washington, DC 20549-0609.

All submissions should refer to File Number 1-13866. This file number should be included on the subject line if e-mail is used. To help us process and review your comments more efficiently, please use only one method. The Commission will post all comments on the Commission's Internet Web site (http://www.sec.gov/rules/delist.shtml). Comments are also available for public inspection and copying in the Commission's Public Reference Room, 450 Fifth Street, NW., Washington, DC 20549. All comments received will be posted without change; we do not edit personal identifying information from submissions. You should submit only information that you wish to make available publicly.

The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 04-13169 Filed 6-9-04; 8:45 am]

BILLING CODE 8010-01-U